NUCLEAR REGULATORY COMMISSION

[Docket No(s). 72-1031; 72-1037; 72-64; 72-38; and 72-45; NRC-2020-0092]

ZionSolutions LLC; Dominion Energy Kewaunee, Inc.; Duke Energy Carolinas, LLC

AGENCY: Nuclear Regulatory Commission.

ACTION: Exemptions; issuance.

SUMMARY: The U.S. Nuclear Regulatory Commission (NRC) issued four exemptions in response to requests from ZionSolutions LLC; Dominion Energy Kewaunee, Inc.; and Duke Energy Carolinas, LLC. The exemptions allow the licensees to deviate from the requirements for the MAGNASTOR® storage cask system in Certificate of Compliance No. 1031, Amendment No. 7 (for Catawba and McGuire) and Amendment No. 6 (for Zion and Kewaunee), by utilizing two exceptions to the American Society of Mechanical Engineers Boiler and Pressure Vessel Code. The NRC is issuing a single notice to announce the issuance of these exemptions because these are nearly identical.

DATES: The four exemptions were issued on April 21, 2020.

ADDRESSES: Please refer to Docket ID NRC-2020-0092 when contacting the NRC about the availability of information regarding this document. You may obtain publicly-available information related to this document using any of the following methods:

• Federal Rulemaking website: Go to https://www.regulations.gov and search for Docket ID NRC-2020-0092. Address questions about NRC dockets IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

For the convenience of the reader, instructions about obtaining materials referenced in this document are provided in the “Availability of Documents” section.

FOR FURTHER INFORMATION CONTACT: Bernard White, U.S. Nuclear Regulatory Commission, Washington, DC 20555-0001; telephone: 301-415-6577, email: Bernard.White@nrc.gov.

SUPPLEMENTARY INFORMATION:

I. Introduction

The NRC issued four exemptions in response to requests dated December 30, 2019, January 16, 2020, and January 9, 2020, from ZionSolutions LLC; Dominion Energy Kewaunee, Inc.; Duke Energy Carolinas, LLC, respectively. The exemptions allow exemption from the requirements of title 10 of the Code of Federal Regulations (10 CFR) sections 72.212(a)(2), 72.212(b)(3), 72.212(b)(5)(i), 72.214, and the portion of 10 CFR 72.212(b)(11), which requires compliance with the terms and conditions set forth in the certificate of compliance for each spent fuel cask used by an independent spent fuel storage installation general licensee.

The exemptions requested use of two exceptions to the American Society of Mechanical Engineers Boiler and Pressure Vessel Code, one for the Section III, Division 1, Subsection NG-2300, Charpy V-notch testing direction requirement for carbon steel plate material greater than 0.625 inches thick and the other to the post-heat treatment ultrasonic testing requirements in Section III, Division 1, Subsection NG-2500, for rolled carbon steel plate material greater than 0.75 inches thick. The requested exemptions do not change the fundamental design, components, contents, or safety features of the storage system.

II. Availability of Documents

The table below provides the plant name, docket number, and ADAMS Accession Numbers related to this action. For further details with respect to these exemptions, see the requests for exemption for each facility in ADAMS. For additional direction on accessing information related to this document, see the ADDRESSES section of this document.

Document title | ADAMS Accession No.
ZionSolutions Independent Spent Fuel Storage Installation
Docket No. 72-1037
Request for an Exemption to the Requirements of Certificate of Compliance No. 1031, Amendment No. 6 for the NAC MAGNASTOR Storage System Zion Nuclear Power Station, Units 1 and 2 Facility Operating License Nos. DPR-39 and DPR-48 NRC Docket Nos. 50-295 and 50-304 Independent Spent Fuel Storage Installation Docket No. 72-1037 | ML20003D845
Revised Request for an Exemption to the Requirements of Certificate of Compliance No. 1031 Amendment No. 6 for the NAC MAGNASTOR Storage System Zion Nuclear Power Station, Units 1 and 2 Facility Operating License Nos. DPR-39 and DPR-48 NRC Docket Nos. 50-295 and 50-304 Independent Spent Fuel Storage Installation Docket No. 72-1037 | ML20035E402
Response to NRC Request for Additional Information for MAGNASTOR Basket Material Investigation for NAC CARs 19-01 and 19-02 | ML20076C526
Issuance of Exemption for Zion Independent Spent Fuel Storage Installation | ML20098E710
Catawba Independent Spent Fuel Storage Installation
Docket No. 72-45
Request for an Exemption to the Requirements of Certificate of Compliance No. 1031, Amendment No. 7 for the NAC MAGNASTOR Storage System | ML20009E527
Response to Requests for Additional Information for Exemption Request to the Requirements of Certificate of Compliance No. 1031, Amendment No. 7 for the NAC MAGNASTOR Storage System | ML20072M224
Issuance of Exemption for Catawba Independent Spent Fuel Storage Installation | ML20098D956
McGuire Independent Spent Fuel Storage Installation
Docket No. 72-38
Request for an Exemption to the Requirements of Certificate of Compliance No. 1031, Amendment No. 7 for the NAC MAGNASTOR Storage System | ML20009E527
Response to Requests for Additional Information for Exemption Request to the Requirements of Certificate of Compliance No. 1031, Amendment No. 7 for the NAC MAGNASTOR Storage System | ML20072M224
Issuance of Exemption for McGuire Independent Spent Fuel Storage Installation | ML20098C982
Kewaunee Independent Spent Fuel Storage Installation
Docket No. 72-38
Dominion Energy Kewaunee, Inc. Kewaunee Power Station Request for Exemption from Certain Code of Federal Regulation Requirements of Certificate of Compliance No. 1031, Amendment No. 6 for the NAC MAGNASTOR Storage System | ML20035C759
Dominion Energy Kewaunee, Inc. Kewaunee Power Station Application for Exemption-MAGNASTOR Storage System Response to Request for Additional Information | ML20086K860
Issuance of Exemption for McGuire Independent Spent Fuel Storage Installation | ML20098D404

The NRC may post additional materials to the Federal rulemaking website at https://www.regulations.gov, under Docket ID NRC-2020-0092. The Federal rulemaking website allows you to receive alerts when changes or additions occur in a docket folder. To subscribe: (1) Navigate to the docket folder (NRC-2020-0092); (2) click the “Sign up for Email Alerts” link; and (3) enter your email address and select how frequently you would like to receive emails (daily, weekly, or monthly).

Dated: April 22, 2020.
For the Nuclear Regulatory Commission.
John B. McKirgan,
Chief, Storage and Transportation Licensing Branch, Division of Fuel Management, Office of Nuclear Material Safety and Safeguards.

[FR Doc. 2020-08925 Filed 4-27-20; 8:45 am]

BILLING CODE 7590-01-P